DEPARTMENT OF AGRICULTURE

Forest Service

Columbia County Resource Advisory Committee (RAC)

AGENCY: Forest Service, USDA.

ACTION: Notice of meeting.

SUMMARY: Pursuant to the authorities in the Federal Advisory Committees Act (Pub. L. 92-463), the Southeast Washington Resource Advisory Committee (RAC) will meet on November 20, 2002, in Pomeroy, Washington. The purpose of the meeting is to discuss the selection of title II projects under Public Law 106-393, H.R. 2389, the Secure Rural Schools and Community Self-Determination Act of 2000, also called the “Payments to States” Act, for Fiscal Year 2002 and outyears.

DATES: The meeting will be held on November 20, 2002, from 6 p.m. to 8 p.m.

ADDRESSES: The meeting will be held at the Forest Service office located at 71 West Main Street, Pomeroy, Washington.

FOR FURTHER INFORMATION CONTACT: Monte Fujishin, Designated Federal Official, USDA, Umatilla National Forest, Pomeroy Ranger District, 71 West Main Street, Pomeroy, WA 99347. Phone: (509) 843-1891.

SUPPLEMENTARY INFORMATION: This will be the first meeting of the Committee for several months, so a review of duties and responsibilities will be needed before discussing title II projects.

The meeting is open to the public. Public input opportunity will be provided and individuals will have the opportunity to address the committee at that time.

Dated: November 12, 2002.
Monte Fujishin,
Designated Federal Official.

0

[FR Doc. 02-29379 Filed 11-19-02; 8:45 am]

BILLING CODE 3410-11-M